DEPARTMENT OF TRANSPORTATION

Maritime Administration

[Docket No. MARAD-2026-0267]

Request for Comments on the Renewal of a Previously Approved Information Collection: Ocean Shipments Moving Under Export-Import Bank Financing

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0013 (Ocean Shipments Moving Under Export-Import (EXIM) Bank Financing) is used to document shipments made during the life of certain EXIM Bank financed projects. Collected information is necessary for MARAD to fulfill its legislative requirement to monitor the percentage of ocean freight revenues and tonnage. MARAD is required to publish this notice in the Federal Register to obtain comments from the public and affected agencies.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Lisa Burley, Office of Cargo and Commercial Sealift, Maritime Administration, U.S. Department of Transportation, 1200 New Jersey Avenue SE, Washington, DC 20590, Email: cargo.marad@dot.gov.

SUPPLEMENTARY INFORMATION:

Title: Ocean Shipments Moving Under Export-Import Bank Financing.

OMB Control Number: 2133-0013.

Type of Request: Extension without change of a currently approved collection.

Abstract: MARAD uses this information collection to monitor compliance with the cargo preference laws by parties covered under Procedural Regulation 17 (PR 17) and 46 U.S.C. 55304, compile annual information on EXIM Bank-financed shipments, and when applicable, provide for an informal grievance procedure, in the event there is a question or complaint pertaining to cargo preference matters.

The monthly shipping reports, with substantiating documents, provide the only basis for MARAD to exercise its legislative responsibility to monitor EXIM Bank-financed cargoes that are transported on U.S.-flag vessels, recipient flag vessels, and on third-flag vessels, according to the determinations and certifications of vessel non-availability that MARAD has granted. The compilation of the statistics from the shipping reports forms the basis for determining compliance with PR 17 for each loan participant. This information is also provided to the EXIM Bank and is the nucleus for conducting annual reviews of the shipping activities of the EXIM Bank programs.

Respondents: All EXIM Bank loan and certain loan guarantee recipients and designated representatives charged with the responsibility of monthly and annual reporting. These respondents include but are not limited to can be contractors, ocean transportation intermediaries, and suppliers, etc.

Affected Public: EXIM Bank loan and certain loan guarantee recipients.

Estimated Number of Respondents: 30.

Estimated Number of Responses: 390.

Estimated Hours per Response: .5.

Annual Estimated Total Annual Burden Hours: 195.

Frequency of Response: Monthly and Annually.

A 60-day Federal Register Notice soliciting comments on this information collection was published on December 23, 2025 (90 Federal Register (FR) 60233).

(Authority: The Paperwork Reduction Act of 1995; 44 U.S.C. Chapter 35, as amended; and 49 CFR 1.49.)

By Order of the Maritime Administrator.
T. Mitchell Hudson, Jr.,
Secretary, Maritime Administration.

[FR Doc. 2026-03975 Filed 2-26-26; 8:45 am]

BILLING CODE 4910-81-P